DEPARTMENT OF HEALTH AND HUMAN SERVICES

National Institutes of Health

Clinical Center; Notice of Meeting

Correction

In notice document 03-12091 appearing on page 26325 in the issue of Thursday, May 15, 2003, make the following correction:

On page 26325, in the third column, in the second paragraph, in the second line, “closed” should read, “open”.

[FR Doc. C3-12091 Filed 5-19-03; 8:45 am]

BILLING CODE 1505-01-D